DEPARTMENT OF TRANSPORTATION

Federal Aviation Administration

14 CFR Part 39

[Docket No. FAA-2013-0020; Directorate Identifier 2010-SW-107-AD]

RIN 2120-AA64

Airworthiness Directives; Eurocopter Deutschland GmbH (ECD) Helicopters

AGENCY: Federal Aviation Administration (FAA), DOT.

ACTION: Notice of proposed rulemaking (NPRM).

SUMMARY: We propose to adopt a new airworthiness directive (AD) for ECD Model MBB-BK 117 C-2 helicopters. This proposed AD would require inspecting the rigging of the power-boosted control system and, if there is a nonparallel gap between the rigging wedges and the inner sleeves, performing a rigging procedure. This proposed AD is prompted by the discovery, during rigging of the main rotor controls, of movement of the longitudinal main rotor actuator piston after shut-down of the external pump drive. Such movement could cause incorrect rigging results. The proposed actions are intended to prevent incorrect rigging results, which could impair freedom of movement of the upper controls and subsequent reduced control of the helicopter.

DATES: We must receive comments on this proposed AD by June 21, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

FOR FURTHER INFORMATION CONTACT: Jim Grigg, Manager, FAA, Rotorcraft Directorate, Safety Management Group, 2601 Meacham Blvd., Fort Worth, TX 76137; telephone (817) 222-5110; email jim.grigg@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No. 2010-0248, dated November 26, 2010 (AD 2010-0248), to correct an unsafe condition for the ECD Model MBB-BK 117 C-2 helicopters. EASA advises that during rigging of the main rotor controls, it was discovered that the piston of the longitudinal main rotor actuator had moved after shut-down of the external pump drive.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other helicopters of the same type design.

Related Service Information

ECD has issued Alert Service Bulletin ASB MBB BK117 C-2-67A-012, Revision 0, dated September 20, 2010 (ASB). The ASB specifies a one-time verification of the correct adjustment of the rigging of the main rotor controls and provides the corresponding test procedure. The ASB further provides an improved rigging procedure as a temporary revision to the ECD BK117C2 Aircraft Maintenance Manual. EASA classified this ASB as mandatory and issued AD 2010-0248 to ensure the continued airworthiness of these helicopters.

Proposed AD Requirements

This proposed AD would require inspecting the rigging of the power-boosted control system and performing a rigging procedure if there is a nonparallel gap between the rigging wedges and the inner sleeves.

Differences Between This Proposed AD and the EASA AD

We do not require inserting temporary changes into the performance section of the Rotorcraft Flight Manual.

Costs of Compliance

We estimate that this proposed AD would affect 108 helicopters of U.S. registry. We estimate that operators may incur the following costs in order to comply with this proposed AD:

• $680 for 8 work hours per helicopter to inspect the main rotor control rigging at an average labor rate of $85 per work hour;

• No additional costs are associated with rigging adjustment, if necessary; and

• $73,440 for the total cost of the proposed AD on U.S. operators.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

EUROCOPTER DEUTSCHLAND GmbH (ECD): Docket No. FAA-2013-0020; Directorate Identifier 2010-SW-107-AD.

(a) Applicability

This AD applies to Model MBB-BK 117 C-2 helicopters, certificated in any category.

(b) Unsafe Condition

This AD defines the unsafe condition as movement of the longitudinal main rotor actuator piston after shut-down of the external pump drive, during rigging of the main rotor controls, causing an incorrect rigging result. This condition could impair freedom of movement of the upper controls and subsequently reduce control of the helicopter.

(c) Compliance

You are responsible for performing each action required by this AD within the specified compliance time unless it has already been accomplished prior to that time.

(d) Required Actions

Within 300 hours time-in-service:

(1) Inspect the rigging of the power-boosted control system, referencing Figure 1 of Eurocopter Alert Service Bulletin ASB MBB BK117 C-2-67A-012, Revision 0, dated September 20, 2010 (ASB). Ensure the piston of the longitudinal actuator (right-hand side) is held in the fully extended position and the piston of the lateral actuator (left-hand side) is held in the fully retracted position against the mechanical stop. Also, ensure the gauge block is clamped between the sliding sleeve and the support tube.

(2) Insert the rigging wedges with the 25.4 degree (item 8) and 19.5 degree (item 7) markings in the “A” side of the guide grooves of the rigging device (item 3).

(3) If the gap between the rigging wedges (items 7 and 8) and the inner sleeves (item 9) is closed, the rigging is correct.

(4) If there is a nonparallel gap between the rigging wedges (items 7 and 8) and the inner sleeves (item 9), the rigging is not correct. Perform a rigging procedure.

(e) Alternative Methods of Compliance (AMOC)

(1) The Manager, Safety Management Group, FAA, may approve AMOCs for this AD. Send your proposal to: Jim Grigg, Manager, Rotorcraft Directorate, 2601 Meacham Blvd., Fort Worth, TX 76137, telephone (817) 222-5110, email Jim.Grigg@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

(1) For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

(2) The subject of this AD is addressed in European Aviation Safety Agency AD No. 2010-0248, dated November 26, 2010.

(g) Subject

Joint Aircraft Service Component (JASC) Code: 6710 Main Rotor Control.

Issued in Fort Worth, Texas, on April 11, 2013.
Lance T. Gant,
Acting Directorate Manager, Rotorcraft Directorate, Aircraft Certification Service.

[FR Doc. 2013-09410 Filed 4-19-13; 8:45 am]

BILLING CODE 4910-13-P